DEPARTMENT OF ENERGY

Federal Energy Regulatory Commission

[Project No. 2341-033]

Georgia Power Company; Notice of Comment Period Extension

On January 24, 2019, the Commission issued a notice through the FERC eLibrary system ¹ setting February 25, 2019, as the end of the formal period to file comments, motions to intervene, or protests on the application for surrender of license for Georgia Power Company's Langdale Hydroelectric Project No. 2341, located on the Chattahoochee River in the City of Valley, Chambers County, Alabama and Harris County, Georgia. Due to the funding lapse at certain federal agencies between December 22, 2018 and January 25, 2019, the Commission is extending the comment period until March 4, 2019.

¹ Go to https://elibrary.ferc.gov/idmws/search/intermediate.asp?link_file=yes&doclist=14738696 and select the file link to view the document.

Dated: February 14, 2019.
Kimberly D. Bose,
Secretary.

[FR Doc. 2019-03328 Filed 2-26-19; 8:45 am]

BILLING CODE 6717-01-P